DEPARTMENT OF ENERGY

Office of Science Financial Assistance Notice 02-06: Albert Einstein Distinguished Educator Fellowship Program Administration

AGENCY: U.S. Department of Energy (DOE).

ACTION: Notice inviting grant applications.

SUMMARY: The Office of Science of the U.S. Department of Energy (DOE) announces its interest in receiving grant applications for support to administer the Albert Einstein Distinguished Educator Fellowship Program. Applications should be from not-for-profit organizations that have experience in administering national programs. The purpose of the program is designed to provide outstanding elementary and secondary mathematics and science teachers the opportunity to bring to Congress and appropriate branches of the Federal government the insights, extensive knowledge, and practical experience of classroom teachers. As Albert Einstein Fellows, teachers can help to increase the understanding, communication, and cooperation between Congress, the Department of Energy, other Federal Agencies, and the mathematics and science education community.

DATES: To permit timely consideration for awards in FY 2002, formal applications in response to this notice should be received on or before January 30, 2002.

ADDRESSES: Completed formal applications referencing Program Notice 02-06 should be forwarded to: U.S. Department of Energy, Office of Science, Grants and Contracts Division, SC-64, 19901 Germantown Road, Germantown, Maryland 20874-1290, ATTN: Program Notice 02-06. The above address must also be used when submitting applications by U.S. Postal Service Express, any other commercial mail delivery service or when hand carried by the applicant.

FOR FURTHER INFORMATION CONTACT: Cindy Musick, U.S. Department of Energy, Office of Science, SC-1 (FRSTL), 1000 Independence Avenue, SW., Washington, DC 20585. E-mail: Cindy.Musick@science.doe.gov.

SUPPLEMENTARY INFORMATION: The Albert Einstein Distinguished Educator Fellowship Act was signed into law in November 1994. The law gives the Department of Energy responsibility for administering the program of Distinguished Educator Fellowships for elementary and secondary school mathematics and science teachers. Selected teachers spend up to one year in a Congressional Office, the Department of Energy (DOE), or in one of several other participating agencies, including the National Science Foundation (NSF), the National Aeronautics and Space Administration (NASA), the National Institutes of Standards and Technology (NIST), the National Institutes of Health (NIH), the Department of Education (ED), or the White House Office of Science and Technology Policy (OSTP).

Administration of the Albert Einstein Distinguished Educator Fellowship program must include, but is not limited to, the following: (1) Advertise and market the program, which may include a website, electronic bulletin boards, educational journals, professional meetings, or through local, state and national alliances; (2) administer the application and review process, including responding to inquiries regarding the application process and conducting the review of all applications; (3) administer the interview process of semi-finalists who come to Washington, including travel and lodging logistics and interview arrangements with all participating agencies; (4) plan and organize the orientation of all new Fellows; (5) provide letters and news releases of Fellow appointments; (6) facilitate the 10-month fellowships, including coordinating all Hill interviews and placements, and planning professional development activities; (7) monitor the quality of each fellowship experience and provide evaluation of the program to the Department; and (8) prepare and submit an annual report to the Department and to the Congress, as directed by the legislation.

It is anticipated that the funding level for FY 2002 will be up to $460,000. Contingent upon the availability of appropriated funds, DOE expects to make one grant in FY 2002 to meet the objectives of this program. Multiple year funding of this grant is expected, ranging from $450,000 to $500,000 per year for up to a five-year project period, with funding provided on an annual basis subject to availability of funds.

Merit Review

Applications will be subjected to a scientific merit review and will be evaluated against the following criteria, which are listed in descending order of importance as set forth in 10 CFR Part 605:

1. Educational benefits of the Project;

2. Appropriateness of the proposed method or approach;

3. Competency of applicant's personnel and adequacy of proposed resources; and

4. Reasonableness and appropriateness of the proposed budget.

General information about development and submission of applications, eligibility, limitations, evaluations and selection processes, and other policies and procedures are contained in the Application Guide for the Office of Science Financial Assistance Program and 10 CFR part 605 which is available on the World Wide Web at: http://www.science.doe.gov/production/grants/grants.html. DOE is under no obligation to pay for any costs associated with the preparation or submission of applications if an award is not made.

The Catalog of Federal Domestic Assistance Number for this program is 81.049, and the solicitation control number is ERFAP 10 CFR part 605.

Issued in Washington, DC on December 17, 2001.
John Rodney Clark,
Associate Director of Science for Resource Management.

[FR Doc. 01-31716 Filed 12-26-01; 8:45 am]

BILLING CODE 6450-02-U